DEPARTMENT OF LABOR

Employment and Training Administration

[TA-W-52,952]

Business Confidential, Old Time Cutting, A.K.A. R&S Cutting, Passaic, NJ; Notice of Termination of Investigation

Pursuant to section 221 of the Trade Act of 1974, as amended, an investigation was initiated on September 24, 2003 in response to a petition filed by a State agency representative on behalf of workers at Old Time Cutting, also known as R&S Cutting, Passaic, New Jersey.

The petitioner has requested that the petition be withdrawn. Consequently, the investigation has been terminated.

Signed at Washington, DC this 24th day of October, 2003.
Richard Church,
Certifying Officer, Division of Trade Adjustment Assistance.

[FR Doc. 03-29281 Filed 11-21-03; 8:45 am]

BILLING CODE 4510-30-P